DEPARTMENT OF DEFENSE

GENERAL SERVICES ADMINISTRATION

NATIONAL AERONAUTICS AND SPACE ADMINISTRATION

48 CFR Parts 2, 7, 11, 23, 39, and 52

RIN 9000-AM71

[FAC 2005-75; FAR Case 2013-016; Item I; Docket 2013-0016, Sequence 1] Federal Acquisition Regulation; EPEAT Items

AGENCIES: Department of Defense (DoD), General Services Administration (GSA), and National Aeronautics and Space Administration (NASA).

ACTION: Interim Rule.

SUMMARY: DoD, GSA, and NASA are issuing an interim rule amending the Federal Acquisition Regulation (FAR) to implement changes in the Electronic Product Environmental Assessment Tool (EPEAT®) registry.

DATES: Effective Date: June 24, 2014.

Comment Date: Interested parties should submit written comments to the Regulatory Secretariat on or before August 25, 2014 to be considered in the formulation of a final rule.

ADDRESSES: Submit comments identified by FAC 2005-75, FAR Case 2013-016, by any of the following methods:

• Regulations.gov: http://www.regulations.gov. Submit comments via the Federal eRulemaking portal by searching for “FAR Case 2013-016” Select the link “Comment Now” that corresponds with “FAR Case 2013-016.” Follow the instructions provided at the “Comment Now” screen. Please include your name, company name (if any), and “FAR Case 2013-016” on your attached document.

• Fax: 202-501-4067.

• Mail: General Services Administration, Regulatory Secretariat (MVCB), ATTN: Ms. Flowers, 1800 F Street NW., 2nd floor, Washington, DC 20405.

Instructions: Please submit comments only and cite FAC 2005-75, FAR Case 2013-016, in all correspondence related to this case. All comments received will be posted without change to http://www.regulations.gov, including any personal and/or business confidential information provided.

FOR FURTHER INFORMATION CONTACT: Mr. Edward N. Chambers, Procurement Analyst, at 202-501-3221 for clarification of content. For information pertaining to status or publication schedules, contact the Regulatory Secretariat at 202-501-4755. Please cite FAC 2005-75, FAR Case 2013-016.

SUPPLEMENTARY INFORMATION:

I. Background

This interim rule revises the Federal Acquisition Regulation (FAR) to expand the Federal requirement to procure EPEAT®-registered products beyond personal computer products to cover imaging equipment (i.e., copiers, digital duplicators, facsimile machines, mailing machines, multifunction devices, printers, and scanners) and televisions and modify the existing FAR requirements to recognize the revised standard applicable to computer products.

In April 2006, the IEEE 1680™ Standard for the Environmental Assessment of Personal Computer Products, was published by the Institute of Electrical and Electronics Engineers (IEEE), Inc., a 140-year-old, ANSI-accredited standards development organization. In July 2006, the EPEAT® Product Registry was launched, providing a listing of products that conformed to this standard. In 2007, President Bush issued Executive Order 13423 (signed January 24, 2007, and published in the Federal Register at 72 FR 3920 on January 26, 2007), which required Federal agencies to satisfy at least 95 percent of their requirements for electronic products with EPEAT®-registered electronic products unless there was not an EPEAT® standard for such product. EPEAT® requirements were added to the FAR by the final rule of FAR Case 2006-030 (published in the Federal Register at 74 FR 2740 on January 15, 2009).

President Obama issued Executive Order 13514 (signed October 5, 2009, and published in the Federal Register at 74 FR 52117 on October 8, 2009) supporting the procurement of EPEAT®-registered products, with one procurement exception added for the acquisition of weapon systems.

The IEEE has finalized a revised version of the 1680™ standard, which contains the process for the conformity assessment to the IEEE 1680™ family of standards. Currently, this family consists of the following:

• IEEE 1680.1™, the specific environmental performance criteria for personal computer products.

• IEEE 1680.2™, the specific environmental performance criteria for imaging equipment.

• IEEE 1680.3™, the specific environmental performance criteria for televisions.

The latter two standards were finalized in 2012 and added to the EPEAT® registry in 2013.

The FAR implementation of EPEAT® requirements, to date, has been limited to the original product category, i.e., personal computer products. The addition of the new EPEAT® product categories requires amendments to FAR subpart 23.7 to fully implement the EPEAT® acquisition requirement.

II. Discussion and Analysis

The FAR, as currently written, does not facilitate full implementation of E.O.s 13423 and 13514. While FAR 23.103 requires that Federal agencies shall advance sustainable acquisition by ensuring that 95 percent of new contract actions for the supply of products and for the acquisition of services (including construction) require that the products are environmentally preferable (e.g., EPEAT-registered, or non-toxic or less toxic alternatives), there has been only one corresponding contract clause, for personal computer products.

The changes being made to the FAR include definitions for the relevant electronic products for computer products, imaging equipment, and televisions. In addition to including new definitions associated with imaging equipment and televisions, the FAR definitions for personal computer products are revised to harmonize with those in IEEE 1680.1™. The FAR text explains at 23.704 that EPEAT®-registered electronic products are designated bronze-, silver-, or gold-registered. The reference to the 95 percent purchasing requirement that had been included in FAR 23.704(c) is removed in this revision because the overall 95 percent sustainable acquisition goal at FAR 23.103(a) makes it unnecessary to repeat the goal for EPEAT®. The language on applicability at FAR 23.704(a)(2) is revised to use wording similar to that used in the energy-efficiency rule at FAR 23.200 without changing the substance. The exceptions that had been located at FAR 23.704(c) are revised for clarity and relocated to FAR 23.704(a).

The format for the clause prescriptions, at FAR 23.705(b), (c), and (d), are conformed to the format used for the clause prescription at FAR 23.206 (for FAR 52.223-15, Energy Efficiency in Energy-Consuming Products). This was done for the purposes of consistency and clarity.

The interim rule includes three contract clauses, one each for computer products, imaging equipment, and televisions. The clauses require acquisition of products with at least the minimum, or bronze-registered, designation. Each of the clauses has one alternate, which purchasers can use when the requirement is for silver- or gold-registered products.

Other amendments made by the interim rule add the current references and clarify the requirements in this area. The definition of “facsimile” at FAR 2.101 is deleted at FAR 2.101 for several reasons. Primarily, DoD, GSA and NASA wanted to ensure that the faxing process could not be confused with “facsimile machine,” as that term is now defined at FAR 23.701. Further, while “facsimile” is used over 90 times in the FAR, its proper use is defined in the two clauses at FAR 52.214-31, Facsimile Bids, and 52.215-5, Facsimile Proposals. There is no value added by having a definition in part 2 of the FAR.

III. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is a significant regulatory action and, therefore, was subject to review under section 6(b) of E.O. 12866, Regulatory Planning and Review, dated September 30, 1993. This rule is not a major rule under 5 U.S.C. 804.

IV. Regulatory Flexibility Act

DoD, GSA, and NASA do not expect this rule to have a significant economic impact on a substantial number of small entities within the meaning of the Regulatory Flexibility Act, 5 U.S.C. 601, et seq. However, an Initial Regulatory Flexibility Analysis (IRFA) has been prepared and is summarized as follows:

This is an interim rule revising the FAR to incorporate EPEAT standards for the procurement of Electronic Product Environmental Assessment Tool (EPEAT®)-registered products beyond personal computer products to cover imaging equipment (i.e., copiers, digital duplicators, facsimile machines, mailing machines, multifunction devices, printers, and scanners) and televisions and modify the existing FAR requirements to recognize the revised standard applicable to personal computer products.

Executive Order 13423 requires Federal agencies to satisfy at least 95 percent of their requirements for electronic products with EPEAT®-registered electronic products unless there is not an EPEAT® standard for such product. Executive Order 13514 supported the procurement of EPEAT®-registered products, with one procurement exception added for the acquisition of weapon systems.

The EPEAT organization is incorporated as a 501(c)(4) “social benefit” nonprofit organization and is overseen by an independent Board of Directors guided by a stakeholder Advisory Council. EPEAT manages the EPEAT® registry. Products must conform to the IEEE 1680™ family of standards in order to be listed on the EPEAT® product registry. The EPEAT requirement, including a specific requirement for the purchase of EPEAT®-registered personal computer products, was added to the FAR by FAR Case 2006-030. Since that final rule was issued on January 15, 2009, the IEEE has published an updated standard for personal computer products and two additional standards, for imaging equipment and televisions.

Searching within the EPEAT® registry on May 3, 2013, the following numbers of products were listed as registered in the United States:

Product category | Bronze | Silver | Gold | Total
Personal computer products | 52 | 793 | 1,528 | 2,373
Imaging equipment | 202 | 128 | 16 | 346
Televisions | -0- | 84 | 39 | 123

These numbers refer to products, not individual companies. However, most (90-100 percent) of the companies with products listed on the EPEAT® registry are large businesses. These companies pay an annual fee, based on a sliding scale determined by the firm's revenue for that product the previous year, in order to be able to list the products on the EPEAT registry.

However, purchasers often procure through resellers or distributors of EPEAT®-registered products rather than directly from the manufacturers. EPA's Office of Small Business Programs stated that the majority of the resellers and distributors for EPEAT®-registered products are categorized as small businesses. Further, only the actual manufacturer pays to list products on the EPEAT® registry. The resellers or distributors pay no fees but reap the benefit of the EPEAT categorization.

Therefore, there will be little or no impact on small businesses due to this rule.

There are no reporting, recordkeeping, or other compliance requirements associated with this rule. The only requirement is that businesses planning to submit a proposal to the Government be aware of the EPEAT® registry and Web site and refer to it during the preparation of proposals.

The rule does not duplicate, overlap, or conflict with any other Federal rules. The compliance and reporting requirements under the rule are minor and not onerous in any sense. Small entities can comply with the requirements either as manufacturers, resellers, or distributors.

The Regulatory Secretariat has submitted a copy of the IRFA to the Chief Counsel for Advocacy of the Small Business Administration. A copy of the IRFA may be obtained from the Regulatory Secretariat. DoD, GSA, and NASA invite comments from small business concerns and other interested parties on the expected impact of this rule on small entities.

DoD, GSA, and NASA will also consider comments from small entities concerning the existing regulations in subparts affected by this rule in accordance with 5 U.S.C. 610. Interested parties must submit such comments separately and should cite 5 U.S.C. 610 (FAC 2005-75, FAR Case 2013-016) in correspondence.

V. Paperwork Reduction Act

The interim rule does not contain any information collection requirements that require the approval of the Office of Management and Budget under the Paperwork Reduction Act (44 U.S.C. chapter 35).

VI. Determination To Issue an Interim Rule

A determination has been made under the authority of the Secretary of Defense (DoD), the Administrator of General Services (GSA), and the Administrator of the National Aeronautics and Space Administration (NASA) that urgent and compelling reasons exist to promulgate this interim rule without prior opportunity for public comment. This action is appropriate because imaging equipment and television items have already been added to the EPEAT® registry. Therefore, under the requirements of E.O.s 13423 and 13514, agencies are already required to fulfill at least 95 percent of their annual acquisition requirement for imaging equipment and televisions with EPEAT-registered products. For these reasons, it is important that contracting personnel be aware of, and include in solicitations as appropriate, the new requirements. However, pursuant to 41 U.S.C. 1707 and FAR 1.501-3(b), DoD, GSA, and NASA will consider public comments received in response to this interim rule in the formation of the final rule.

List of Subjects in 48 CFR Parts 2, 7, 11, 23, 39, and 52

Government procurement.

Dated: June 13, 2014.
William Clark,
Acting Director, Office of Government-Wide Acquisition Policy, Office of Acquisition Policy, Office of Government-Wide Policy.

Therefore, DoD, GSA, and NASA amend 48 CFR parts 2, 7, 11, 23, 39, and 52 as set forth below:

1. The authority citation for 48 CFR parts 2, 7, 11, 23, 39, and 52 continues to read as follows:

Authority: 40 U.S.C. 121(c); 10 U.S.C. chapter 137; and 51 U.S.C. 20113.

PART 2—DEFINITIONS OF WORDS AND TERMS

2.101 [Amended]

2. Amend section 2.101 by removing the definition “Facsimile”.

PART 7—ACQUISITION PLANNING

7.103 [Amended]

3. Amend section 7.103 by removing from paragraph (p)(2) “(EPEAT)” and adding “(EPEAT®)” in its place.

PART 11—DESCRIBING AGENCY NEEDS

11.002 [Amended]

4. Amend section 11.002 by removing from paragraph (d)(1)(v) “EPEAT” and adding “EPEAT®” in its place.

PART 23—ENVIRONMENT, ENERGY AND WATER EFFICIENCY, RENEWABLE ENERGY TECHNOLOGIES, OCCUPATIONAL SAFETY, AND DRUG-FREE WORKPLACE

23.000 [Amended]

5. Amend section 23.000 by removing from paragraph (d) “EPEAT” and adding “EPEAT®” in its place.

23.103 [Amended]

6. Amend section 23.103 by removing from paragraph (a)(4) “EPEAT” and adding “EPEAT®” in its place.

7. Revise section 23.701 to read as follows:

23.701 Definitions.

As used in this subpart—

Computer means a device that performs logical operations and processes data. Computers are composed of, at a minimum:

(1) A central processing unit (CPU) to perform operations;

(2) User input devices such as a keyboard, mouse, digitizer, or game controller; and

(3) A computer display screen to output information. Computers include both stationary and portable units, including desktop computers, integrated desktop computers, notebook computers, thin clients, and workstations. Although computers must be capable of using input devices and computer displays, as noted in paragraphs (2) and (3) of this definition, computer systems do not need to include these devices on shipment to meet this definition. This definition does not include server computers, gaming consoles, mobile telephones, portable hand-held calculators, portable digital assistants (PDAs), MP3 players, or any other mobile computing device with displays less than 4 inches, measured diagonally.

Computer display means a display screen and its associated electronics encased in a single housing or within the computer housing (e.g., notebook or integrated desktop computer) that is capable of displaying output information from a computer via one or more inputs such as a VGA, DVI, USB, DisplayPort, and/or IEEE 1394-2008™, Standard for High Performance Serial Bus. Examples of computer display technologies are the cathode-ray tube (CRT) and liquid crystal display (LCD).

Desktop computer means a computer where the main unit is intended to be located in a permanent location, often on a desk or on the floor. Desktops are not designed for portability and utilize an external computer display, keyboard, and mouse. Desktops are designed for a broad range of home and office applications.

Electronic products means products that are dependent on electric currents or electromagnetic fields in order to work properly.

Imaging equipment means the following products:

(1) Copier—A commercially available imaging product with a sole function of the production of hard copy duplicates from graphic hard-copy originals. The unit is capable of being powered from a wall outlet or from a data or network connection. This definition is intended to cover products that are marketed as copiers or upgradeable digital copiers (UDCs).

(2) Digital duplicator—A commercially available imaging product that is sold in the market as a fully automated duplicator system through the method of stencil duplicating with digital reproduction functionality. The unit is capable of being powered from a wall outlet or from a data or network connection. This definition is intended to cover products that are marketed as digital duplicators.

(3) Facsimile machine (fax machine)—A commercially available imaging product whose primary functions are scanning hard-copy originals for electronic transmission to remote units and receiving similar electronic transmissions to produce hard-copy output. Electronic transmission is primarily over a public telephone system but also may be via computer network or the Internet. The product also may be capable of producing hard copy duplicates. The unit is capable of being powered from a wall outlet or from a data or network connection. This definition is intended to cover products that are marketed as fax machines.

(4) Mailing machine—A commercially available imaging product that serves to print postage onto mail pieces. The unit is capable of being powered from a wall outlet or from a data or network connection. This definition is intended to cover products that are marketed as mailing machines.

(5) Multifunction device (MFD)—A commercially available imaging product, which is a physically integrated device or a combination of functionally integrated components, that performs two or more of the core functions of copying, printing, scanning, or faxing. The copy functionality as addressed in this definition is considered to be distinct from single-sheet convenience copying offered by fax machines. The unit is capable of being powered from a wall outlet or from a data or network connection. This definition is intended to cover products that are marketed as MFDs or multifunction products.

(6) Printer—A commercially available imaging product that serves as a hard-copy output device and is capable of receiving information from single-user or networked computers, or other input devices (e.g., digital cameras). The unit is capable of being powered from a wall outlet or from a data or network connection. This definition is intended to cover products that are marketed as printers, including printers that can be upgraded into MFDs in the field.

(7) Scanner—A commercially available imaging product that functions as an electro-optical device for converting information into electronic images that can be stored, edited, converted, or transmitted, primarily in a personal computing environment. The unit is capable of being powered from a wall outlet or from a data or network connection. This definition is intended to cover products that are marketed as scanners.

Integrated desktop computer means a desktop system in which the computer and computer display function as a single unit that receives its AC power through a single cable. Integrated desktop computers come in one of two possible forms:

(1) A system where the computer display and computer are physically combined into a single unit; or

(2) A system packaged as a single system where the computer display is separate but is connected to the main chassis by a DC power cord and both the computer and computer display are powered from a single power supply. As a subset of desktop computers, integrated desktop computers are typically designed to provide similar functionality as desktop systems.

Notebook computer means a computer designed specifically for portability and to be operated for extended periods of time either with or without a direct connection to an AC power source. Notebooks must utilize an integrated computer display and be capable of operation off of an integrated battery or other portable power source. In addition, most notebooks use an external power supply and have an integrated keyboard and pointing device. Notebook computers are typically designed to provide similar functionality to desktops, including operation of software similar in functionality to that used in desktops. Docking stations are considered accessories for notebook computers, not notebook computers. Tablet PCs, which may use touch-sensitive screens along with, or instead of, other input devices, are considered notebook computers.

Personal computer product means a computer, computer display, desktop computer, integrated desktop computer, or notebook computer.

Television, or TV, means a commercially available electronic product designed primarily for the reception and display of audiovisual signals received from terrestrial, cable, satellite, Internet Protocol TV (IPTV), or other digital or analog sources. A TV consists of a tuner/receiver and a display encased in a single enclosure. The product usually relies upon a cathode-ray tube (CRT), liquid crystal display (LCD), plasma display, or other display technology. Televisions with computer capability (e.g., computer input port) may be considered to be a TV as long as they are marketed and sold to consumers primarily as televisions.

8. Revise section 23.704 to read as follows:

23.704 Electronic product environmental assessment tool.

(a)(1) General. As required by E.O.s 13423 and 13514, agencies shall acquire Electronic Product Environmental Assessment Tool (EPEAT®)-registered electronic products, unless—

(i) There is no EPEAT® standard for such products; or

(ii) The agency head, in accordance with agency procedures, determines that—

(A) No EPEAT®-registered product meets agency requirements; or

(B) The EPEAT®-registered product will not be cost effective over the life of the product.

(2) This subpart applies to acquisitions of electronic products to be used in the United States, unless otherwise provided by agency procedures. When acquiring electronic products to be used outside the United States, agencies must use their best efforts to comply with this subpart.

(b) Personal computer products, imaging equipment, and televisions. These are categories of EPEAT®-registered electronic products.

(1) The IEEE 1680.1™-2009 Standard for the Environmental Assessment of Personal Computer Products, the IEEE 1680.2™-2012 Standard for the Environmental Assessment of Imaging Equipment, and the IEEE 1680.3™-2012 Standard for the Environmental Assessment of Televisions—

(i) Were issued by the Institute of Electrical and Electronics Engineers, Inc., on March 5, 2010; October 19, 2012, and October 19, 2012, respectively;

(ii) Are voluntary consensus standards consistent with section 12(d) of Pub. L. 104-113 (15 U.S.C. 272 note), the “National Technology Transfer and Advancement Act of 1995,” (see 11.102);

(iii) Meets EPA-issued guidance on environmentally preferable products and services; and

(iv) Are described in more detail at www.epa.gov/epeat.

(2) A list of EPEAT® product categories and EPEAT®-registered electronic products that are in conformance with these standards can be found at www.epa.gov/epeat.

(3) EPEAT® electronic products are designated “bronze-,” “silver-,” or “gold-” registered.

(4) Agencies shall, at a minimum, acquire EPEAT® bronze-registered products.

(5) Agencies are encouraged to acquire EPEAT® silver- or gold-registered products.

9. Amend section 23.705 by redesignating paragraph (b) as paragraph (d), and adding new paragraphs (b) and (c), and revising the newly redesignated paragraph (d) to read as follows:

23.705 Contract clauses.

* * * * *

(b)(1) Unless an exception applies in accordance with 23.704(a), insert the clause at 52.223-13, Acquisition of EPEAT®-Registered Imaging Equipment, in all solicitations and contracts when imaging equipment (copiers, digital duplicators, facsimile machines, mailing machines, multifunction devices, printers, and scanners) will be—

(i) Delivered;

(ii) Acquired by the contractor for use in performing services at a Federally controlled facility; or

(iii) Furnished by the contractor for use by the Government.

(2) Agencies may use the clause with its Alternate I when there are sufficient EPEAT® silver- or gold-registered products available to meet agency needs.

(c)(1) Unless an exception applies in accordance with 23.704(a), insert the clause at 52.223-14, Acquisition of EPEAT®-Registered Televisions, in all solicitations and contracts when televisions will be—

(i) Delivered;

(ii) Acquired by the contractor for use in performing services at a Federally controlled facility; or

(iii) Furnished by the contractor for use by the Government.

(2) Agencies may use the clause with its Alternate I when there are sufficient EPEAT® silver- or gold-registered products available to meet agency needs.

(d)(1) Unless an exception applies in accordance with 23.704(a), insert the clause at 52.223-16, Acquisition of EPEAT®-Registered Personal Computer Products, in all solicitations and contracts when personal computer products will be—

(i) Delivered;

(ii) Acquired by the contractor for use in performing services at a Federally controlled facility; or

(iii) Furnished by the contractor for use by the Government.

(2) Agencies may use the clause with its Alternate I when there are sufficient EPEAT® silver- or gold-registered products available to meet agency needs.

PART 39—ACQUISITION OF INFORMATION TECHNOLOGY

39.101 [Amended]

10. Amend section 39.101 by removing from paragraph (b)(1)(ii) “(EPEAT®)” and adding “(EPEAT)” in its place.

PART 52—SOLICITATION PROVISIONS AND CONTRACT CLAUSES

11. Amend section 52.212-5 by—

a. Revising the date of the clause;

b. Redesignating paragraphs (b)(38) through (54) as paragraphs (b)(40) through (56);

c. Adding new paragraphs (b)(38) and (39); and

d. Revising the newly redesignated paragraph (b)(41).

The revised and added text reads as follows:

52.212-5 Contract Terms and Conditions Required To Implement Statutes or Executive Orders—Commercial Items.

* * * * *

Contract Terms and Conditions Required To Implement Statutes or Executive Orders—Commercial Items (Jun 2014)

* * * * *

(b) * * *

__(38)(i) 52.223-13, Acquisition of EPEAT®-Registered Imaging Equipment (Jun 2014)+(E.O.s 13423 and 13514).

(ii) Alternate I (Jun 2014) of 52.223-13.

__(39)(i) 52.223-14, Acquisition of EPEAT®-Registered Televisions (Jun 2014) (E.O.s 13423 and 13514).

(ii) Alternate I (Jun 2014) of 52.223-14.

* * * * *

__(41)(i) 52.223-16, Acquisition of EPEAT®-Registered Personal Computer Products (Jun 2014) (E.O.s 13423 and 13514).

(ii) Alternate I (Jun 2014) of 52.223-16.

* * * * *

12. Add sections 52.223-13 and 52.223-14 to read as follows:

52.223-13 Acquisition of EPEAT®-Registered Imaging Equipment.

As prescribed in 23.705(b)(1), insert the following clause:

Acquisition of Epeat®-Registered Imaging Equipment (Jun 2014)

(a) Definitions. As used in this clause—

Imaging equipment means the following products:

(1) Copier—A commercially available imaging product with a sole function of the production of hard copy duplicates from graphic hard-copy originals. The unit is capable of being powered from a wall outlet or from a data or network connection. This definition is intended to cover products that are marketed as copiers or upgradeable digital copiers (UDCs).

(2) Digital duplicator—A commercially available imaging product that is sold in the market as a fully automated duplicator system through the method of stencil duplicating with digital reproduction functionality. The unit is capable of being powered from a wall outlet or from a data or network connection. This definition is intended to cover products that are marketed as digital duplicators.

(3) Facsimile machine (fax machine)—A commercially available imaging product whose primary functions are scanning hard-copy originals for electronic transmission to remote units and receiving similar electronic transmissions to produce hard-copy output. Electronic transmission is primarily over a public telephone system but also may be via computer network or the Internet. The product also may be capable of producing hard copy duplicates. The unit is capable of being powered from a wall outlet or from a data or network connection. This definition is intended to cover products that are marketed as fax machines.

(4) Mailing machine—A commercially available imaging product that serves to print postage onto mail pieces. The unit is capable of being powered from a wall outlet or from a data or network connection. This definition is intended to cover products that are marketed as mailing machines.

(5) Multifunction device (MFD)—A commercially available imaging product, which is a physically integrated device or a combination of functionally integrated components, that performs two or more of the core functions of copying, printing, scanning, or faxing. The copy functionality as addressed in this definition is considered to be distinct from single-sheet convenience copying offered by fax machines. The unit is capable of being powered from a wall outlet or from a data or network connection. This definition is intended to cover products that are marketed as MFDs or multifunction products.

(6) Printer—A commercially available imaging product that serves as a hard-copy output device and is capable of receiving information from single-user or networked computers, or other input devices (e.g., digital cameras). The unit is capable of being powered from a wall outlet or from a data or network connection. This definition is intended to cover products that are marketed as printers, including printers that can be upgraded into MFDs in the field.

(7) Scanner—A commercially available imaging product that functions as an electro-optical device for converting information into electronic images that can be stored, edited, converted, or transmitted, primarily in a personal computing environment. The unit is capable of being powered from a wall outlet or from a data or network connection. This definition is intended to cover products that are marketed as scanners.

(b) Under this contract, the Contractor shall deliver, furnish for Government use, or furnish for Contractor use at a Federally controlled facility, only imaging equipment that, at the time of submission of proposals and at the time of award, was EPEAT® bronze-registered or higher.

(c) For information about EPEAT®, see www.epa.gov/epeat.

(End of clause)

Alternate I (Jun 2014). As prescribed in 23.705(b)(2), substitute the following paragraph (b) for paragraph (b) of the basic clause:

(b) Under this contract, the Contractor shall deliver, furnish for Government use, or furnish for contractor use at a Federally controlled facility, only imaging equipment that, at the time of submission of proposals and at the time of award, was EPEAT silver-registered or gold-registered.

52.223-14 Acquisition of EPEAT®-Registered Televisions.

As prescribed in 23.705(c)(1), insert the following clause:

Acquisition of Epeat®-Registered Televisions (Jun 2014)

(a) Definitions. As used in this clause—

Television or TV means a commercially available electronic product designed primarily for the reception and display of audiovisual signals received from terrestrial, cable, satellite, Internet Protocol TV (IPTV), or other digital or analog sources. A TV consists of a tuner/receiver and a display encased in a single enclosure. The product usually relies upon a cathode-ray tube (CRT), liquid crystal display (LCD), plasma display, or other display technology. Televisions with computer capability (e.g., computer input port) may be considered to be a TV as long as they are marketed and sold to consumers primarily as televisions.

(b) Under this contract, the Contractor shall deliver, furnish for Government use, or furnish for Contractor use at a Federally controlled facility, only televisions that, at the time of submission of proposals and at the time of award, were EPEAT® bronze-registered or higher.

(c) For information about EPEAT®, see www.epa.gov/epeat.

(End of clause)

Alternate I (Jun 2014). As prescribed in 23.705(c)(2), substitute the following paragraph (b) for paragraph (b) of the basic clause:

(b) Under this contract, the Contractor shall deliver, furnish for Government use, or furnish for Contractor use at a Federally controlled facility, only televisions that, at the time of submission of proposals and at the time of award, were EPEAT® silver-registered or gold-registered.

13. Revise section 52.223-16 to reads as follows:

52.223-16 Acquisition of EPEAT-Registered Personal Computer Products.

As prescribed in 23.705(d)(1), insert the following clause:

Acquisition of Epeat®-Registered Personal Computer Products (Jun 2014)

(a) Definitions. As used in this clause—

Computer means a device that performs logical operations and processes data. Computers are composed of, at a minimum:

(1) A central processing unit (CPU) to perform operations;

(2) User input devices such as a keyboard, mouse, digitizer, or game controller; and

(3) A computer display screen to output information. Computers include both stationary and portable units, including desktop computers, integrated desktop computers, notebook computers, thin clients, and workstations. Although computers must be capable of using input devices and computer displays, as noted in (2) and (3) above, computer systems do not need to include these devices on shipment to meet this definition. This definition does not include server computers, gaming consoles, mobile telephones, portable hand-held calculators, portable digital assistants (PDAs), MP3 players, or any other mobile computing device with displays less than 4 inches, measured diagonally.

Computer display means a display screen and its associated electronics encased in a single housing or within the computer housing (e.g., notebook or integrated desktop computer) that is capable of displaying output information from a computer via one or more inputs such as a VGA, DVI, USB, DisplayPort, and/or IEEE 1394-2008™, Standard for High Performance Serial Bus. Examples of computer display technologies are the cathode-ray tube (CRT) and liquid crystal display (LCD).

Desktop computer means a computer where the main unit is intended to be located in a permanent location, often on a desk or on the floor. Desktops are not designed for portability and utilize an external computer display, keyboard, and mouse. Desktops are designed for a broad range of home and office applications.

Integrated desktop computer means a desktop system in which the computer and computer display function as a single unit that receives its AC power through a single cable. Integrated desktop computers come in one of two possible forms:

(1) A system where the computer display and computer are physically combined into a single unit; or

(2) A system packaged as a single system where the computer display is separate but is connected to the main chassis by a DC power cord and both the computer and computer display are powered from a single power supply. As a subset of desktop computers, integrated desktop computers are typically designed to provide similar functionality as desktop systems.

Notebook computer means a computer designed specifically for portability and to be operated for extended periods of time either with or without a direct connection to an AC power source. Notebooks must utilize an integrated computer display and be capable of operation off of an integrated battery or other portable power source. In addition, most notebooks use an external power supply and have an integrated keyboard and pointing device. Notebook computers are typically designed to provide similar functionality to desktops, including operation of software similar in functionality to that used in desktops. Docking stations are considered accessories for notebook computers, not notebook computers. Tablet PCs, which may use touch-sensitive screens along with, or instead of, other input devices, are considered notebook computers.

Personal computer product means a computer, computer display, desktop computer, integrated desktop computer, or notebook computer.

(b) Under this contract, the Contractor shall deliver, furnish for Government use, or furnish for Contractor use at a Federally controlled facility, only personal computer products that, at the time of submission of proposals and at the time of award, were EPEAT® bronze-registered or higher.

(c) For information about EPEAT, see www.epa.gov/epeat.

(End of clause)

Alternate I (Jun 2014). As prescribed in 23.705(d)(2), substitute the following paragraph (b) for paragraph (b) of the basic clause:

(b) Under this contract, the Contractor shall deliver, furnish for Government use, or furnish for Contractor use at a Federally controlled facility, only personal computer products that, at the time of submission of proposals and at the time of award, were EPEAT® silver-registered or gold-registered.

[FR Doc. 2014-14376 Filed 6-23-14; 8:45 am]

BILLING CODE 6820-EP-P